DEPARTMENT OF HOUSING AND URBAN DEVELOPMENT

[Docket No. FR-4997-N-01]

Notice of Regulatory Waiver Requests Granted for the First Quarter of Calendar Year 2005

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2005, and ending on March 31, 2005.

FOR FURTHER INFORMATION CONTACT: For general information about this notice, contact Aaron Santa Anna, Assistant General Counsel for Regulations, Room 10276, Department of Housing and Urban Development, 451 Seventh Street, SW., Washington, DC 20410-0500, telephone 202-708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the first quarter of calendar year 2005.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers waivers of regulations granted by HUD from January 1, 2005, through March 31, 2005. For ease of reference, the waivers granted by HUD are listed by HUD program office (for example, the Office of Community Panning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2005) before the next report is published (the second quarter of calendar year 2005), HUD will include any additional waivers granted for the first quarter in the next report.

Accordingly, information about approved waiver requests pertaining to HUD regulations is provided in the Appendix that follows this notice.

Dated: June 9, 2005.
Kathleen D. Koch,
Deputy General Counsel.

Appendix—Listing of Waivers of Regulatory Requirements Granted by Offices of the Department of Housing and Urban Development January 1, 2005, Through March 31, 2005

Note to Reader: More information about the granting of these waivers, including a copy of the waiver request and approval, may be obtained by contacting the person whose name is listed as the contact person directly after each set of regulatory waivers granted.

The regulatory waivers granted appear in the following order:

I. Regulatory waivers granted by the Office of Fair Housing and Equal Opportunity.

II. Regulatory waivers granted by the Office of Housing.

III. Regulatory waivers granted by the Office of Public and Indian Housing.

I. Regulatory Waivers Granted by the Office of Fair Housing and Equal Opportunity Development

For further information about the following regulatory waivers, please see the name of the contact person that immediately follows the description of the waiver granted.

Regulations: 24 CFR 135.38.

Project/Activity: The City of Watsonville, California requested a waiver of § 135.38 of the regulations governing Economic Opportunities for Low- and Very Low-Income Persons in 24 CFR part 135.

Nature of Requirement: Section 135.38 enumerates the Section 3 clauses for contracts awarded with federally assistance.

Granted by: Carolyn Peoples, Assistant Secretary for Fair Housing and Housing and Equal Opportunity.

Date Granted: April 5, 2004.

Reasons Waiver: The City of Watsonville, CA, a Community Development Block Grant entitlement city, was in jeopardy of losing a $2.75 million grant from the United States Department of Commerce's Economic Development Administration (EDA) for a public parking structure in downtown Watsonville. The inclusion of the Section 3 contract clause in construction contracts conflicted with EDA's procurement regulations.

Contact: Rafiq Munir, Acting Director, Economic Opportunity Division, Department of Housing and Urban Development, 451 Seventh Street, SW., Washington, DC 20410-7000, telephone (202) 708-6385.

II. Regulatory Waivers Granted by the Office of Housing—Federal Housing Administration (FHA)

For further information about the following regulatory waivers, please see the name of the contact person that immediately follows the description of the waiver granted.

• Regulation: 24 CFR 219.220(b).

Project/Activity: Eden Green Cooperatives, Chicago, Illinois, FHA Project Numbers 071-55068, 071-55069, 071-55070, 071-55071.

Nature of Requirement: Section 219.220(b) governs the repayment of operating assistance provided under the Flexible Subsidy Program for Troubled Projects prior to May 1, 1996. This section states: “Assistance that has been paid to a project owner under this subpart must be repaid at the earlier of the expiration of the term of the mortgage, termination of mortgage insurance, prepayment of the mortgage, or a sale of the project * * *” Either of these actions would typically terminate FHA involvement with the property, and the Flexible Subsidy Program loan would be repaid, in whole, at that time.

Granted by: John C. Weicher, Assistant Secretary for Housing-Federal Housing Commissioner.

Date Granted: February 3, 2005.

Reason Waived: This waiver is granted in order to allow the owners of Eden Green Cooperatives to repay a Flexible Subsidy Program loan. The owners have requested to subordinate the Flexible Subsidy Program loan to the new Section 221(d)(4) mortgage. The cooperative will transfer ownership to a new limited partnership, the Habitat Company, which is fully restoring the property with tax credits, FHA insurance and tax-exempt bonds from the City of Chicago. The cooperative voted on August 9, 2004, to sell four of the five mortgages covering the cooperative. The Habitat Company plans to return the properties to the residents upon expiration of the Low Income Housing Tax Credits. The refinance will be used to pay off the delinquent HUD-held mortgage and complete needed rehabilitation of the property.

Contact: Beverly J. Miller, Director, Office of Asset Management, Department of Housing and Urban Development, 451 Seventh Street, SW., Washington, DC 20410-7000, telephone (202) 708-3730.

• Regulation: 24 CFR 401.461.

Project/Activity: The following project requested a waiver to the simple interest requirement on the second mortgage to allow compound interest at the applicable Federal rate. (24 CFR 401.461):

FHA No. | Project | State
08435239 | Brookfield Apartments | MO

Nature of Requirement: Section 401.461 requires that the second mortgages have an interest rate not more than the applicable Federal rate. Section 401.461(b)(1) states that interest will accrue but not compound. The intent of simple interest instead of compound interest is to limit the size of the second mortgage accruals to increase the likelihood of long-term financial and physical integrity.

Granted by: John C. Weicher, Assistant Secretary for Housing-Federal Housing Commissioner.

Date Granted: February 23, 2005.

Reason Waived: This regulatory restriction would be construed as a form of Federal subsidy, thereby creating a loss of tax credit equity. This loss will adversely affect the ability to close the restructuring plan, and could cause the loss or deterioration of these affordable housing projects. Therefore, compound interest is necessary for the owners to obtain Low Income Housing Tax Credits under favorable terms, and in order to maximize the savings to the Federal government.

Contact: Dennis Manning, Office of Affordable Housing Preservation, Department of Housing and Urban Development, 451 Seventh Street, SW., Washington, DC 20410-8000, telephone (202) 708-0001.

• Regulation: 24 CFR 401.461.

Project/Activity: The following projects requested waivers to the simple interest requirement on the second mortgage to allow compound interest at the applicable Federal rate. (24 CFR 401.461):

FHA No. | Project | State
03435167 | Freeland Elderly Housing | MO
03435194 | Freeland III Housing | MO

Nature of Requirement: Section 401.461 requires that second mortgages have an interest rate not more than the applicable Federal rate. Section 401.461(b)(1) states that interest will accrue but not compound. The intent of simple interest instead of compound interest is to limit the size of the second mortgage accruals to increase the likelihood of long-term financial and physical integrity.

Granted by: John C. Weicher, Assistant Secretary for Housing-Federal Housing Commissioner.

Date Granted: March 22, 2005.

Reason Waived: This regulatory restriction would be construed as a form of Federal subsidy, thereby creating a loss of tax credit equity. This loss will adversely affect the ability to close the restructuring plan, and could cause the loss or deterioration of these affordable housing projects. Therefore, compound interest is necessary for the owners to obtain Low Income Housing Tax Credits under favorable terms, and in order to maximize the savings to the Federal government.

Contact: Dennis Manning, Office of Affordable Housing Preservation, Department of Housing and Urban Development, 451 Seventh Street, SW., Washington, DC 20410-8000, telephone (202) 708-0001.

• Regulation: 24 CFR 401.600.

Project/Activity: The following projects requested waivers to the 12-month limit at above-market rents (24 CFR 401.600):

A FHA No. | D Project | F State
6235209 | Cedars Green Apartments | AL
10110557 | Birchwood Manor | CO
7355120 | Eden Green Apartments | IN
4635265 | Carl Apartments | OH
4238002 | Firelands Retirement Center | OH
4244020 | Pentecostal Apartments | OH
11344071 | Western Heights Apartments | TX
1732022 | Underwood Elderly | CT
7135568 | Austin Renaissance | IL

Nature of Requirement: Section 401.600 requires that projects be marked down to market rents within 12 months of their first expiration date after January 1, 1998. The intent of this provision is to ensure timely processing of requests for restructuring, and that the properties will not default on their FHA insured mortgages during the restructuring process.

Granted by: John C. Weicher, Assistant Secretary for Housing-Federal Housing Commissioner.

Date Granted: February 11, 2005.

Reason Waived: The projects listed above were not assigned to the participating administrative entities (PAEs) in a timely manner or the restructuring analysis was unavoidably delayed due to no fault of the owners.

Contact: Norman Dailey, Office of Affordable Housing Preservation, Department of Housing and Urban Development, 451 Seventh Street, SW., Washington, DC 20410-8000; telephone (202) 708-0001.

• Regulation: 24 CFR 401.600.

Project/Activity: The following projects requested waivers to the 12-month limit at above-market rents (24 CFR 401.600):

FHA No. | Project | State
3135236 | Audubon Park | NJ
35427 | Cavalier Apartments | DC
6535291 | Driftwood Apartments | MS
4535069 | Dunbar Towers | WV
12235488 | East 35th Street Apartments | CA
12235551 | Hamlin Estates | CA
3135244 | Hampshire House | NJ
2336613 | Lena Park (Granite Package #7) | MA
2336612 | Washington Columbia Apartments | MA
6235342 | Woodlands Apartments | AL
5335428 | Greentree Village Apartments | NC
6144040 | Holsey Cobb Village Apartments | GA
6144148 | Shy Manor Apartments | GA

Nature of Requirement: Section 401.600 requires that projects be marked down to market rents within 12 months of their first expiration date after, January 1, 1998. The intent of this provision is to ensure timely processing of requests for restructuring, and that the properties will not default on their FHA insured mortgages during the restructuring process.

Granted by: John C. Weicher, Assistant Secretary for Housing-Federal Housing Commissioner.

Date Granted: March 10, 2005.

Reason Waived: The projects listed above were not assigned to the participating administrative entities (PAEs) in a timely manner, or the restructuring analysis was unavoidably delayed due to no fault of the owners.

Contact: Norman Dailey, Office of Affordable Housing Preservation, Department of Housing and Urban Development, 451 Seventh Street, SW., Washington, DC 20410-8000, telephone (202) 708-0001.

• Regulation: 24 CFR 891.100(d).

Project/Activity: William W. Winpisinger, Cleveland, Ohio, Project Number: 042-EE145/OH12-S021-008.

Nature of Requirement: Section 891.100(d) prohibits amendment of the amount of the approved capital advance funds prior to initial closing.

Granted by: John C. Weicher, Assistant Secretary for Housing-Federal Housing Commissioner.

Date Granted: January 6, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: John Chambers Apartments, Las Vegas, Nevada, Project Number: 125-HD071/NV25-Q031-001.

Nature of Requirement: Section 891.100(d) prohibits amendment of the amount of the approved capital advance funds prior to initial closing.

Granted by: John C. Weicher, Assistant Secretary for Housing-Federal Housing Commissioner.

Date Granted: January 12, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Hickory Lane One, Princess Anne, Maryland, Project Number: 052-EE035/MD06-S001-001.

Nature of Requirement: Section 891.100(d) prohibits amendment of the amount of the approved capital advance funds prior to initial closing.

Granted by: John C. Weicher, Assistant Secretary for Housing-Federal Housing Commissioner.

Date Granted: January 28, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Oak Knoll Villa, San Antonio, Texas, Project Number: 115-EE065/TX59-S021-001.

Nature of Requirement: Section 891.100(d) prohibits amendment of the amount of the approved capital advance funds prior to initial closing.

Granted by: John C. Weicher, Assistant Secretary for Housing-Federal Housing Commissioner.

Date Granted: February 3, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: College Park Towers II, Orlando, Florida, Project Number: 067-EE125/FL29-S031-001.

Nature of Requirement: Section 891.100(d) prohibits amendment of the amount of the approved capital advance funds prior to initial closing.

Granted by: John C. Weicher, Assistant Secretary for Housing-Federal Housing Commissioner.

Date Granted: February 4, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: New Castle Housing, New Castle, Colorado, Project Number: 101-EE058/CO99-S033-001.

Nature of Requirement: Section 891.100(d) prohibits amendment of the amount of the approved capital advance funds prior to initial closing.

Granted by: John C. Weicher, Assistant Secretary for Housing-Federal Housing Commissioner.

Date Granted: February 14, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Sterling Senior Apartments, Bellingham, Washington, Project Number: 127-EE038/WA19-S021-004.

Nature of Requirement: Section 891.100(d) prohibits amendment of the amount of the approved capital advance funds prior to initial closing.

Granted by: John C. Weicher, Assistant Secretary for Housing-Federal Housing Commissioner.

Date Granted: March 2, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Victorian Woods, Decatur, Illinois, Project Number: 072-EE153/IL06-S031-013.

Nature of Requirement: Section 891.100(d) prohibits amendment of the amount of the approved capital advance funds prior to initial closing.

Granted by: John C. Weicher, Assistant Secretary for Housing-Federal Housing Commissioner.

Date Granted: March 4, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Lincoln Street Housing, Depew, New York, Project Number: 014-HD115/NY06-Q031-005.

Nature of Requirement: Section 891.100(d) prohibits amendment of the amount of the approved capital advance funds prior to initial closing.

Granted by: John C. Weicher, Assistant Secretary for Housing-Federal Housing Commissioner.

Date Granted: March 4, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Daisy House, Rochester New York, Project Number: 014-EE208/NY06-S011-007.

Nature of Requirement: Section 891.100(d) prohibits amendment of the amount of the approved capital advance funds prior to initial closing.

Granted by: John C. Weicher, Assistant Secretary for Housing-Federal Housing Commissioner.

Date Granted: March 4, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Sunflower Housing, Lackawanna, New York, Project Number: 014-EE218/NY06-S021-006.

Nature of Requirement: Section 891.100(d) prohibits amendment of the amount of the approved capital advance funds prior to initial closing.

Granted by: John C. Weicher, Assistant Secretary for Housing-Federal Housing Commissioner.

Date Granted: March 9, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: South Seven Senior Housing, Port Hadlock, Washington, Project Number: 127-EE036/WA19-S021-001.

Nature of Requirement: Section 891.100(d) prohibits amendment of the amount of the approved capital advance funds prior to initial closing.

Granted by: John C. Weicher, Assistant Secretary for Housing-Federal Housing Commissioner.

Date Granted: March 15, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: San Antonio VOA Living Center, San Antonio, Texas, Project Number: 115-HD040/TX59-Q031-001.

Nature of Requirement: Section 891.100(d) prohibits amendment of the amount of the approved capital advance funds prior to initial closing.

Granted by: John C. Weicher, Assistant Secretary for Housing-Federal Housing Commissioner.

Date Granted: March 15, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Holiness Homes of Vision, Chicago, Illinois, Project Number: 071-EE182/IL06-S031-001.

Nature of Requirement: Section 891.100(d) prohibits amendment of the amount of the approved capital advance funds prior to initial closing.

Granted by: John C. Weicher, Assistant Secretary for Housing-Federal Housing Commissioner.

Date Granted: March 15, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Hanover Street Elderly Housing, Manchester, New Hampshire, Project Number: 024-EE073/NH36-S031-003.

Nature of Requirement: Section 891.100(d) prohibits amendment of the amount of the approved capital advance funds prior to initial closing.

Granted by: John C. Weicher, Assistant Secretary for Housing-Federal Housing Commissioner.

Date Granted: March 21, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Independence II, Mount Laurel, New Jersey, Project Number: 035-HD048/NJ39-W011-003.

Nature of Requirement: Section 891.100(d) prohibits amendment of the amount of the approved capital advance funds prior to initial closing.

Granted by: John C. Weicher, Assistant Secretary for Housing-Federal Housing Commissioner.

Date Granted: March 24, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Washington Lane Section 811, Philadelphia, Pennsylvania, Project Number: 034-HD070/PA26-Q021-001.

Nature of Requirement: Section 891.100(d) prohibits amendment of the amount of the approved capital advance funds prior to initial closing.

Granted by: John C. Weicher, Assistant Secretary for Housing-Federal Housing Commissioner.

Date Granted: March 24, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: San Antonio VOA Elderly Housing, San Antonio, Texas, Project Number: 115-EE067/TX59-S031-001.

Nature of Requirement: Section 891.100(d) prohibits amendment of the amount of the approved capital advance funds prior to initial closing.

Granted by: John C. Weicher, Assistant Secretary for Housing-Federal Housing Commissioner.

Date Granted: March 29, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Carlton Avenue Group Home, Charlottesville, Virginia, Project Number: 051-HD123/VA36-Q031-005.

Nature of Requirement: Section 891.100(d) prohibits amendment of the amount of the approved capital advance funds prior to initial closing.

Granted by: John C. Weicher, Assistant Secretary for Housing-Federal Housing Commissioner.

Date Granted: March 29, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Family Services of Western Pennsylvania IV, Vandergrift, Pennsylvania, Project Number: 033-HD075/PA28-Q0221-003.

Nature of Requirement: Section 891.100(d) prohibits amendment of the amount of the approved capital advance funds prior to initial closing.

Granted by: John C. Weicher, Assistant Secretary for Housing-Federal Housing Commissioner.

Date Granted: March 30, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: VOANNE Brackett Street House, Portland, Maine, Project Number: 024-HD041/ME36-Q031-001.

Nature of Requirement: Section 891.100(d) prohibits amendment of the amount of the approved capital advance funds prior to initial closing.

Granted by: John C. Weicher, Assistant Secretary for Housing-Federal Housing Commissioner.

Date Granted: March 30, 2005.

Reason Waived: The project is economically designed and comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Sherman Apartments, Aurora, Illinois, Project Number: 071-HD121/IL06-Q011-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: January 14, 2005.

Reason Waived: The project is economically designed and comparable to similar projects in the area, and the sponsor/owner has exhausted all efforts to obtain additional funding from other sources. This project also required additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Helena Elderhousing, Inc., Helena, Montana, Project Number: 093-EE012/MT99-S021-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: January 18, 2005.

Reason Waived: The project is economically designed and comparable to similar projects in the area, and the sponsor/owner has exhausted all efforts to obtain additional funding from other sources. This project also required additional time to issue the firm commitment.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Boulevard Apartments, Petaluma, California, Project Number: 121-HD076/CA39-Q021-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: January 25, 2005.

Reason Waived: The project is economically designed and comparable to similar projects in the area, and the sponsor/owner has exhausted all efforts to obtain additional funding from other sources. This project also required additional time because of the City's lengthy review process and their shortage of staff.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Pioneer Place Senior Housing, Plano, Texas, Project Number: 113-EE031/TX21-S021-009.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: January 26, 2005.

Reason Waived: The project is economically designed and comparable to similar projects in the area, and the sponsor/owner has exhausted all efforts to obtain additional funding from other sources. This project also required additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Casa de Corazones, Las Cruces, New Mexico, Project Number: 116-HD020/NM16-Q021-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: January 26, 2005.

Reason Waived: The project is economically designed and comparable to similar projects in the area, and the sponsor/owner has exhausted all efforts to obtain additional funding from other sources. This project also required additional time to correct the Lease Agreement and for approval of the contractor.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: St. Gabriel Manor, St. Martinville, Louisiana, Project Number: 064-EE141/LA48-S021-008.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: February 3, 2005.

Reason Waived: The project is economically designed and comparable to similar projects in the area, and the sponsor/owner has exhausted all efforts to obtain additional funding from other sources. This project also required additional time for the sponsor/owner to submit revised plans and specifications and for HUD to review the firm commitment.

Contact: Willie Spearmon, Director, Office of Housing Assistance and Grant Administration, Department of Housing and Urban Development, 451 Seventh Street, SW., Washington, DC 20410-8000, telephone (202) 708-3000.

• Regulation: 24 CFR 891.130(b).

Project/Activity: Northwest Estates, Moses Lake, Washington, Project Number: 171-HD013/WA19-Q031-003.

Nature of Requirement: Section 891.130(b) prohibits an identify of interest between the sponsor or owner (or borrower, as applicable) and any development team member or between development team members until two years after final closing.

Granted by: John C. Weicher, Assistant Secretary for Housing-Federal Housing Commissioner.

Date Granted: January 13, 2005.

Reason Waived: There are few, if any companies in the area with the capability and expertise to serve as the management agent, no individuals will benefit financially from either the sale of the property or from managing the project. The Grant County Housing Authority has agreed to sell the project sites at 10 percent below the appraised fair market value.

Contact: Willie Spearmon, Director, Office of Housing Assistance and Grant Administration, Department of Housing and Urban Development, 451 Seventh Street, SW., Washington, DC 20410-8000, telephone (202) 708-3000.

• Regulation: 24 CFR 891.130(b).

Project/Activity: Luther House III of Jennersville, West Grove, Pennsylvania, Project Number: 034-EE130/PA26-S031-002.

Nature of Requirement: Section 891.130(b) prohibits an identity of interest between the sponsor or owner (or borrower, as applicable) and any development team member or between development team members until two years after final closing.

Granted by: John C. Weicher, Assistant Secretary for Housing-Federal Housing Commissioner.

Date Granted: February 11, 2005.

Reason Waived: The contractor agreed to maintain the construction cost estimate provided in May 2004, and a substantial increase in HUD funds would be required if the Sponsor/Owner was required to seek a new contractor. In addition, the original architect was allowed to remain with the project through initial closing in order to comply with State requirements. However, a new architect was hired to complete the project.

Contact: Willie Spearmon, Director, Office of Housing Assistance and Grant Administration, Department of Housing and Urban Development, 451 Seventh Street, SW., Washington, DC 20410-8000, telephone (202) 708-3000.

• Regulation: 24 CFR 891.165.

Project/Activity: Seniors at Hegemon, Columbus, Ohio, Project Number: 043-EE085/OH16-S021-006.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: January 3, 2005.

Reason Waived: This project required additional time to prepare for initial closing.

Contact: Willie Spearmon, Director, Office of Housing Assistance and Grant Administration, Department of Housing and Urban Development, 451 Seventh Street, SW., Washington, DC 20410-8000, telephone (202) 708-3000.

• Regulation: 24 CFR 891.165.

Project Activity: Robert H. Moore Senior Housing, Brooklyn, New York, Project Number: 012-EE324/NY36-S021-005.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: January 3, 2005.

Reason Waived: This project required additional time for the owner to revise the site plan.

Contact: Willie Spearmon, Director, Office of Housing Assistance and Grant Administration, Department of Housing and Urban Development, 451 Seventh Street, SW., Washington, DC 20410-8000, telephone (202) 708-3000.

• Regulation: 24 CFR 891.165.

Project/Activity: Fairham Homes, Middletown, Ohio, Project Number: 046-HD025/OH10-Q011-002.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: January 3, 2005.

Reason Waived: This project required additional time for the owner to obtain the building permit.

Contact: Willie Spearmon, Director, Office of Housing Assistance and Grant Administration, Department of Housing and Urban Development, 451 Seventh Street, SW., Washington, DC 20410-8000, telephone (202) 708-3000.

• Regulation: 24 CFR 891.165.

Project/Activity: South Suburban Elderly, Harvey, Illinois, Project Number: 071-EE174/IL06-S021-002.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: January 3, 2005.

Reason Waived: This project required additional time for the firm commitment to be issued.

Contact: Willie Spearmon, Director, Office of Housing Assistance and Grant Administration, Department of Housing and Urban Development, 451 Seventh Street, SW., Washington, DC 20410-8000, telephone (202) 708-3000.

• Regulation: 24 CFR 891.165.

Project/Activity: Victory Heights, Washington, DC, Project Number: 000-EE058/DC39-S021-002.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: January 5, 2005.

Reason Waived: This project required additional time for HUD to review the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Honoka'a Knolls Senior Apartments, Honoka'a, Hawaii, Project Number: 140-EE020/HI110-S991-002.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: January 25, 2005.

Reason Waived: This project required additional time for the owner to find a general contractor.

Contact: Willie Spearmon, Director, Office of Housing Assistance and Grant Administration, Department of Housing and Urban Development, 451 Seventh Street, SW., Washington, DC 20410-8000, telephone (202) 708-3000.

• Regulation: 24 CFR 891.165.

Project/Activity: Faith Village, Houston, Texas, Project Number: 114-EE096/TX24-S021-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: February 3, 2005.

Reason Waived: This project required additional time for the sponsor/owner to select another contractor and for HUD to process the firm commitment application.

Contact: Willie Spearmon, Director, Office of Housing Assistance and Grant

Administration, Department of Housing and Urban Development, 451 Seventh Street, SW., Washington, DC 20410-8000, telephone (202) 708-3000.

• Regulation: 24 CFR 891.165.

Project/Activity: National Church Residence, Rock Hill, South Carolina, Project Number: 054-EE060/SC16-S021-008.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: February 3, 2005.

Reason Waived: This project required additional time to reach an initial closing.

Contact: Willie Spearmon, Director, Office of Housing Assistance and Grant Administration, Department of Housing and Urban Development, 451 Seventh Street, SW., Washington, DC 20410-8000, telephone (202) 708-3000.

• Regulation: 24 CFR 891.165.

Project/Activity: BCARC Homes IV, Incorporated, Palm Bay, Florida, Project Number: 067-HD086/FL29-Q011-006.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: February 3, 2005.

Reason Waived: This project required additional time for the Project Attorney to correct deficient items in the closing documents.

Contact: Willie Spearmon, Director, Office of Housing Assistance and Grant Administration, Department of Housing and Urban Development, 451 Seventh Street, SW., Washington, DC 20410-8000, telephone (202) 708-3000.

• Regulation: 24 CFR 891.165.

Project/Activity: Casa Mia, Phoenix, Arizona, Project Number: 123-EE086/AZ20-S021-004.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: February 4, 2005.

Reason Waived: This project required additional time for HUD to process the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Green Gables, Huntington, West Virginia, Project Number: 045-HD034/WV15-Q021-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: February 8, 2005.

Reason Waived: This project required additional time for the sponsor/owner to find another site.

Contact: Willie Spearmon, Director, Office of Housing Assistance and Grant Administration, Department of Housing and Urban Development, 451 Seventh Street, SW., Washington, DC 20410-8000, telephone (202) 708-3000.

• Regulation: 24 CFR 891.165.

Project/Activity: Proctor Avenue Residence, Revere, Massachusetts, Project Number: 023-HD153/MA06-Q991-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 4, 2005.

Reason Waived: This project required additional time for the initial closing.

Contact: Willie Spearmon, Director, Office of Housing Assistance and Grant Administration, Department of Housing and Urban Development, 451 Seventh Street, SW., Washington, DC 20410-8000, telephone (202) 708-3000.

• Regulation: 24 CFR 891.165.

Project/Activity: McDowell County Housing Action Network, War, West Virgina, Project Number: 045-EE015-WV15-S011-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 9, 2005.

Reason Waived: This project required additional time for the owner to revise the plans and specifications.

Contact: Willie Spearmon, Director, Office of Housing Assistance and Grant Administration, Department of Housing and Urban Development, 451 Seventh Street, SW., Washington, DC 20410-8000, telephone (202) 708-3000.

• Regulation: 24 CFR 891.165.

Project/Activity: National Church Residences, Rock Hill, South Carolina, Project Number: 054-EE060/SC16-S021-008.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 15, 2005.

Reason Waived: This project required additional time for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Deltona Gardens, Deltona, Florida, Project Number: 067-HD087/FL29-Q021-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 15, 2005.

Reason Waived: This project required additional time for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Livingston Manor Senior Apartments, Bethlehem, Pennsylvania, Project Number: 034-EE128/PA26-S021-009.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 21, 2005.

Reason Waived: This project required additional time for the owner to obtain approval of the development plans and the building permit.

Contact: Willie Spearmon, Director, Office of Housing Assistance and Grant Administration, Department of Housing and Urban Development, 451 Seventh Street, SW., Washington, DC 20410-8000, telephone (202) 708-3000.

• Regulation: 24 CFR 891.165.

Project/Activity: Holly Ridge Apartments, Rock Hill, South Carolina, Project Number: 054-HD100/SC16-Q021-003.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 22, 2005.

Reason Waived: This project required additional time to review the initial closing documents and for the owner to receive the building permit.

Contact: Willie Spearmon, Director, Office of Housing Assistance and Grant Administration, Department of Housing and Urban Development, 451 Seventh Street, SW., Washington, DC 20410-8000, telephone (202) 708-3000.

• Regulation: 24 CFR 891.165.

Project/Activity: Gulfport Manor, Gulfport, Mississippi, Project Number: 065-EE031/MS26-S001-002.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 28, 2005.

Reason Waived: This project required additional time for the owner to complete the bidding process and submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Drayton Village, Incorporated, Newberry, South Carolina, Project Number: 054-EE054/SC16-S021-002.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 28, 2005.

Reason Waived: This project required additional time for the project to reach initial closing.

Contact: Willie Spearmon, Director, Office of Housing Assistance and Grant Administration, Department of Housing and Urban Development, 451 Seventh Street, SW., Washington, DC 20410-8000, telephone (202) 708-3000.

• Regulation: 24 CFR 891.165.

Project/Activity: Hunterdon Consumer Home, East Amwell, New Jersey, Project Number: 031-HD121/NJ39-Q001-012.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 29, 2005.

Reason Waived: This project required additional time to obtain a building permit.

Contact: Willie Spearmon, Director, Office of Housing Assistance and Grant Administration, Department of Housing and Urban Development, 451 Seventh Street, SW., Washington, DC 20410-8000, telephone (202) 708-3000.

• Regulation: 24 CFR 891.165.

Project/Activity: Preferred Supportive Housing 2, Toms River, New Jersey, Project Number: 035-HD051/NJ39-Q021-007.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: March 30, 2005.

Reason Waived: This project required additional time for the building permit to be issued.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Pollock Apartments, Zanesville, Ohio, Project Number: 043-EE072/OH16-S001-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: February 3, 2005.

Reason Waived: The project is economically designed and comparable to similar projects in the area, and the sponsor/owner has exhausted all efforts to obtain additional funding from other sources. This project also required additional time for HUD to review and issue the firm commitment, and for the project to be initially closed.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Westland Terrace Program, Haverhill, Massachusetts, Project Number: 023-HD163/MA06-Q001-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: March 14, 2005.

Reason Waived: The project is economically designed and comparable to similar projects in the area, and the sponsor/owner has exhausted all efforts to obtain additional funding from other sources. This project also required additional time to hire a new consultant and replace the general contractor.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Los Sures Senior Housing, Brooklyn, New York, Project Number: 012-EE310/NY36-S011-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: March 23, 2005.

Reason Waived: The project is economically designed and comparable to similar projects in the area, and the sponsor/owner has exhausted all efforts to obtain additional funding from other sources. This project also required additional time to identify a contractor and to secure additional funds.

Contact: Willie Spearmon, Director, Office of Housing Assistance and Grant Administration, Department of Housing and Urban Development, 451 Seventh Street, SW., Washington, DC 20410-8000, telephone (202) 708-3000.

• Regulation: 24 CFR 891.310(b)(1) and (b)(2).

Project/Activity: Options Supported Housing Project IX, Bellport, New York, Project Number: 012-HD117/NY36-Q031-002.

Nature of Requirement: Section 891.310(b)(1) and (b)(2) requires that all entrances, common areas, units to be occupied by resident staff and amenities must be readily accessible to and usable by persons with disabilities.

Granted by: John C. Weicher, Assistant Secretary for Housing-Federal Housing Commissioner.

Date Granted: January 3, 2005.

Reason Waived: The project consists of acquisition and rehabilitation of four single-family structures to be used as group homes for independent living for persons with chronic mental illness. One home will be made fully accessible, which will result in 8.3 percent of the total project meeting the accessibility requirements.

Contact: Willie Spearmon, Director, Office of Housing Assistance and Grant Administration, Department of Housing and Urban Development, 451 Seventh Street, SW., Washington, DC 20410-8000, telephone (202) 708-3000.

• Regulation: 24 CFR 891.410(c).

Project/Activity: Bell Tower Apartments, Torrington, Wyoming, FHA Project No. 109-EE002.

Nature of Requirement: HUD regulations at 24 CFR part 891 relates to admission of families to projects for elderly or handicapped families that receive reservations under section 202 of the Housing Act of 1937. Section 891.410(c) limits occupancy to very low-income elderly persons. To qualify, households must include a minimum of one person who is at least 62 years of age at the time of initial occupancy.

Granted by: John C. Weicher, Assistant Secretary for Housing-Federal Housing Commissioner.

Date Granted: February 3, 2005.

Reason Waived: This waiver is granted in order to alleviate the current occupancy problem. The current occupancy level will not support the operating needs of the project. The waiver will help alleviate occupancy and financial problems at the project.

Contact: Beverly J. Miller, Director, Office of Asset Management, Department of Housing and Urban Development, 451 Seventh Street, SW., Washington, DC 20410-8000, telephone (202) 708-3730.

III. Regulatory Waivers Granted by the Office of Public and Indian Housing

For further information about the following regulatory waivers, please see the name of the contact person that immediately follows the description of the waiver granted.

• Regulation: 24 CFR 902.20.

Project/Activity: The Housing Authority of the City of Daytona Beach (FL007), Daytona Beach, FL.

Nature of Requirement: The objective of this regulation is to determine whether a housing authority is meeting the standard of decent, safe, sanitary, and in good repair. HUD's Real Estate Assessment Center (REAC) provides for an independent physical inspection of a housing authority's property of properties that includes a statistically valid sample of the units.

Granted by: Michael Liu, Assistant Secretary for Public and Indian Housing.

Date Granted: January 28, 2005.

Reason Waived: Three hurricanes hit the area in August and September of 2004. As a result, 70 percent of the family units had roof and/or soffit and fascia damage, plus numerous trees were downed. Repairs are expected to take 12 months.

Contact: Judy Wojciechowski, Program Manager, NASS, Real Estate Assessment Center, Office of Public and Indian Housing, Department of Housing and Urban Development, 550 12th Street, SW., Suite 100, Washington, DC 20410-5000, telephone (202) 475-7907.

• Regulation: 24 CFR 902.20.

Project/Activity: Delray Beach Housing Authority (FL083), Delray Beach, FL.

Nature of Requirement: The objective of this regulation is to determine whether a housing authority is meeting the standard of decent, safe, sanitary, and in good repair. The REAC provides for an independent physical inspection of a housing authority's property of properties that includes a statistically valid sample of the units.

Granted by: Michael Liu, Assistant Secretary for Public and Indian Housing.

Date Granted: February 18, 2005.

Reason Waived: Two hurricanes hit the area in September of 2004. The housing authority experienced extensive property damage, including roof damage and structural deterioration.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20.

Project/Activity: Orlando Housing Authority (FL004), Orlando, FL.

Nature of Requirement: The objective of this regulation is to determine whether a housing authority is meeting the standard of decent, safe, sanitary, and in good repair. The REAC provides for an independent physical inspection of a housing authority's property of properties that includes a statistically valid sample of the units.

Granted by: Michael Liu, Assistant Secretary for Public and Indian Housing.

Date Granted: February 18, 2005.

Reason Waived: Three hurricanes hit the area in August and September of 2004. The housing authority experienced extensive property damage, including roof collapse, and had to relocate residents.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20.

Project/Activity: Housing Authority of the City of Stuart (FL045), Stuart, FL.

Nature of Requirement: The objective of 24 CFR 902.20 is to determine whether a housing authority is meeting the standard of decent, safe, sanitary, and in good repair. The REAC provides for an independent physical inspection of a housing authority's property of properties that includes a statistically valid sample of the units.

Granted by: Michael Liu, Assistant Secretary for Public and Indian Housing.

Date Granted: March 14, 2005.

Reason Waived: Both Hurricane Frances and Hurricane Jeanne hit the area in September of 2004. The hurricanes caused extensive physical damage, which is in the process of being repaired.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20.

Project/Activity: DeLand Housing Authority (FL072), DeLand, FL.

Nature of Requirement: The objective of 24 CFR 902.20 is to determine whether a housing authority is meeting the standard of decent, safe, sanitary, and in good repair. The REAC provides for an independent physical inspection of a housing authority's property of properties that includes a statistically valid sample of the units.

Granted by: Michael Liu, Assistant Secretary for Public and Indian Housing.

Date Granted: March 14, 2005.

Reason Waived: Four hurricanes this past summer caused extensive physical damage. In addition, the housing authority has not been able to secure bids to repair the damage.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20.

Project/Activity: Fort Walton Beach Housing Authority (FL069), Fort Walton Beach, FL.

Nature of Requirement: The objective of 24 CFR 902.20 is to determine whether a housing authority is meeting the standard of decent, safe, sanitary, and in good repair. The REAC provides for an independent physical inspection of a housing authority's property of properties that includes a statistically valid sample of the units.

Granted by: Michael Liu, Assistant Secretary for Public and Indian Housing.

Date Granted: March 14, 2005.

Reason Waived: Hurricane damage resulted in mold. Remediation of the mold damage was delayed due to insurance settlement issues and contractor pricing concerns. It is expected that repairs will be completed by June 1, 2005.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20.

Project/Activity Lakeland Housing Authority (FL011), Lakeland, FL.

Nature of Requirement: The objective of 24 CFR 902.20 is to determine whether a housing authority is meeting the standard of decent, safe, sanitary, and in good repair. The REAC provides for an independent physical inspection of a housing authority's property of properties that includes a statistically valid sample of the units.

Granted by: Michael Liu, Assistant Secretary for Public and Indian Housing.

Date Granted: March 28, 2005.

Reason Waived: Hurricanes Charley, Frances, and Jeanne caused significant damage to the Housing Authority.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20.

Project/Activity: Housing Authority of the City of Titusville (FL025), Titusville, FL.

Nature of Requirement: The objective of 24 CFR 902.20 is to determine whether a housing authority is meeting the standard of decent, safe, sanitary, and in good repair. The REAC provides for an independent physical inspection of a housing authority's property of properties that includes a statistically valid sample of the units.

Granted by: Michael Liu, Assistant Secretary for Public and Indian Housing.

Date Granted: March 28, 2005.

Reason Waived: Hurricanes Frances, and Jeanne caused significant damage to the housing authority. In addition, the housing authority has had difficulty finding contractor help.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20.

Project/Activity: Pahokee Housing Authority (FL021), Pahokee, FL.

Nature of Requirement: The objective of 24 CFR 902.20 is to determine whether a housing authority is meeting the standard of decent, safe, sanitary, and in good repair. The REAC provides for an independent physical inspection of a housing authority's property of properties that includes a statistically valid sample of the units.

Granted by: Michael Liu, Assistant Secretary for Public and Indian Housing.

Date Granted: March 28, 2005.

Reason Waived: Two hurricanes caused extensive physical damage to the housing authority's properties.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20, 902.40, 902.50.

Project/Activity: Milton Housing Authority FL053, Milton, FL.

Nature of Requirement: The objective of 24 CFR 902.20 is to determine whether a housing authority is meeting the standard of decent, safe, sanitary, and in good repair. The REAC provides for an independent physical inspection of a housing authority's property of properties that includes a statistically valid sample of the units. Management operations certification is required to be submitted within two months after the housing authority's fiscal year end (24 CFR 902.40). The Resident Service and Satisfaction Indicator is performed through the use of a survey. The housing authority is also responsible for completing implementation plan activities and developing a follow-up plan (24 CFR 902.50).

Granted by: Michael Liu, Assistant Secretary for Public and Indian Housing.

Date Granted: February 4, 2005.

Reason Waived: Hurricane Ivan (September 16, 2004) caused extensive wind and flood damage to the housing authority. As a result, some residents had to be relocated. It is estimated that the physical repairs will take six to twelve months to complete.

Contact: Judy Wojciechowski, Program Manager, NASS, Real Estate Assessment Center, Office of Public and Indian Housing, Department of Housing and Urban Development, 550 12th Street, SW., Suite 100, Washington, DC 20410-5000, telephone (202) 475-7907.

• Regulation: 24 CFR 902.20, 902.40, 902.50. 24 CFR 902.33.

Project/Activity: Fort Pierce Housing Authority (FL041), Fort Pierce, FL.

Nature of Requirement: The objective of 24 CFR 902.20 is to determine whether a housing authority is meeting the standard of decent, safe, sanitary, and in good repair. The REAC provides for an independent physical inspection of a housing authority's property of properties that includes a statistically valid sample of the units. Section 902.33 establishes certain reporting compliance dates: Unaudited financial statements are required to be submitted two months after the housing authority's fiscal year end, and audited financial statements will be required no later than nine months after the housing authority's fiscal year end, in accordance with the Single Audit Act and Office of Management and Budget (OMB) Circular A-133. Management operations certification is required to be submitted within two months after the housing authority's fiscal year end (24 CFR 902.40). The Resident Service and Satisfaction Indicator is performed through the use of a survey. The housing authority is also responsible for completing implementation plan activities and developing a follow-up plan (24 CFR 902.50).

Granted by: Michael Liu, Assistant Secretary for Public and Indian Housing.

Date Granted: February 9, 2005.

Reason Waived: Hurricanes on September 3 and 23, 2004, caused damage to over 400 units, and some residents had to be relocated. In addition, some needed repair materials such as roof shingles, are at a shortage. It is estimated the physical repairs will take 24 to 30 months to complete.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.20, 902.40, 902.50.

Project/Activity: Riviera Beach Housing Authority (FL076), Riviera Beach, FL.

Nature of Requirement: The objective of 24 CFR 902.20 is to determine whether a housing authority is meeting the standard of decent, safe, sanitary, and in good repair. The REAC provides for an independent physical inspection of a housing authority's property of properties that includes a statistically valid sample of the units. Management operations certification is required to be submitted within two months after the housing authority's fiscal year end (24 CFR 902.40). The Resident Service and Satisfaction Indicator is performed through the use of a survey. The housing authority is also responsible for completing implementation plan activities and developing a follow-up plan (24 CFR 902.50).

Granted by: Michael Liu, Assistant Secretary for Public and Indian Housing.

Date Granted: March 28, 2005.

Reason Waived: Damage from wind, debris, and water from two hurricanes resulted in the relocation of 83 families. The housing authority is waived from physical inspections and resident satisfaction surveys for Fiscal Year (FY) 2004 and FY2005, and from the management operations certification for FY2004.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 902.33(c).

Project/Activity: The Housing Authority of the City of Gary (IN011), Gary IN.

Nature of Requirement: The regulation establishes certain reporting compliance dates. Unaudited financial statements are required to be submitted two months after the public housing agency (PHA) fiscal year end, and audited financial statements will be required no later than nine months after the PHA's fiscal year end, in accordance with the Single Audit Act and OMB Circular A-133.

Granted by: Michael Liu, Assistant Secretary for Public and Indian Housing.

Date Granted: January 28, 2005.

Reason Waived: The PHA began soliciting requests for audit proposals prior to the beginning of the fiscal year, and evaluated the firms to ensure they possessed the required knowledge and experience. As a result, the PHA had to solicit for proposals several times before being able to engage an acceptable firm. The PHA has until March 31, 2005, to submit its audited financial information.

Contact: Judy Wojciechowski, Program Manager, NASS, Real Estate Assessment Center, Office of Public and Indian Housing, Department of Housing and Urban Development, 550 12th Street, SW., Suite 100, Washington, DC 20410-5000, telephone (202) 475-7907.

• Regulation: 24 CFR 902.33(c).

Project/Activity: Raleigh Housing Authority (NC002), Raleigh, NC.

Nature of Requirement: The regulation establishes certain reporting compliance dates. Unaudited financial statements are required to be submitted two months after the PHA fiscal year end, and audited financial statements will be required no later than nine months after the PHA's fiscal year end, in accordance with the Single Audit Act and OMB Circular A-133.

Granted by: Michael Liu, Assistant Secretary for Public and Indian Housing.

Date Granted: January 28, 2005.

Reason Waived: After completing the fieldwork, the auditor became critically ill and remained in intensive care through the due date. The other partner in the firm agreed to complete the audit, but requested additional time. The PHA has until March 31, 2005, to submit its audited financial data.

Contact: Judy Wojciechowski, Program Manager, NASS, Real Estate Assessment Center, Office of Public and Indian Housing, Department of Housing and Urban Development, 550 12th Street, SW., Suite 100, Washington, DC 20410-5000, telephone (202) 475-7907.

• Regulation: 24 CFR 902.33(c).

Project/Activity: The Housing Authority City of Sanford (FL016), Sanford, FL.

Nature of Requirement: The regulation establishes certain reporting compliance dates. Unaudited financial statements are required to be submitted two months after the PHA fiscal year end, and audited financial statements will be required no later than nine months after the PHA's fiscal year end, in accordance with the Single Audit Act and OMB Circular A-133.

Granted by: Michael Liu, Assistant Secretary for Public and Indian Housing.

Date Granted: February 18, 2005.

Reason Waived: The PHA has been under HUD Receivership since August 4, 2003. The complexity of identifying and locating invoices, and other irregularities, prevents the completion of a viable audit by the due date. Financial consultants reviewed and evaluated the records and confirmed they are not ready for audit. The PHA has until September 30, 2005, to submit its audited financial information.

Contact: Delton Nichols, Acting Program Manager, NASS, Real Estate Assessment Center, Office of Public and Indian Housing, Department of Housing and Urban Development, 550 12th Street, SW., Suite 100, Washington, DC 20410-5000, telephone (202) 475-8795.

• Regulation: 24 CFR 941.610 Subparts (a)(1)-(a)(7).

Project/Activity: Trouton and Woolsley Closings, New Columbia HOPE VI Grant: OR-16-URD-006-I-100, Portland, Oregon

Nature of Requirement: The provision requires that HUD review and approve certain legal documents and evidentiary materials relating to mixed-finance development before a closing can take place and funds can be released.

Granted by: Michael Liu, Assistant Secretary for the Office of Public and Indian Housing

Date Granted: March 18, 2005.

Reason Waived: The waiver was approved in order to streamline the review and approval process, to reduce duplicate review, and to expedite closing. The waiver was approved because: (1) The Housing Authority of Portland (HAP) will submit documentation that certifies to the accuracy and authenticity of the subject evidentiary materials; (2) HAP is a high performing housing authority with extensive affordable housing development and mixed-finance experience and has thus far met all of its locked checkpoints for the New Columbia Grant; (3) these mixed-finance phases involve Low Income Housing Tax Credits from the Oregon Housing and Community Services Department, Federal Home Loan Bank Affordable Housing Program funds, and City of Portland funds, all of which have extensive review and financial control mechanisms; (4) Trouton and Woolsley are near duplicates of the Cecelia and Haven phases, which were reviewed and approved by HUD, in May of 2004, and which have the same financial and operating structure. HAP continues its role as developer, sole general partner and lender. All financial partners are the same as with the exception of the equity investor.

Contact: Milan Ozdinec, Deputy Assistant Secretary for the Office of Public Housing Investments, Department of Housing and Urban Development, 451 Seventh Street, SW., Room 4130, Washington, DC 20410-5000, telephone, (202) 401-8812.

• Regulation: 24 CFR 982.505(d).

Project/Activity: Fall River Housing Authority (FRHA), Fall River, MA. The FRHA requested extension of a special exception payment standard that exceeds 120 percent of the fair market rent as a reasonable accommodation for a housing choice voucher holder's disabilities.

Nature of Requirement: Section 982.505(d) allows a PHA to approve a higher payment standard within the basic range for a family that includes a person with a disability as a reasonable accommodation in accordance with 24 CFR part 8.

Granted by: Michael Liu, Assistant Secretary for Public and Indian Housing.

Date Granted: January 4, 2005.

Reason Waived: Approval of the waiver was granted to allow a disabled housing choice voucher holder to continue to reside in his two-bedroom unit, which is considered medically and emotionally necessary, by his physician because of his many illnesses, including a mood disorder.

Contact: Dr. Alfred C. Jurison, Director, Housing Voucher Management and Operations Division, Office of Public Housing and Voucher Programs, Office of Public and Indian Housing, Department of Housing and Urban Development, 451 Seventh Street, SW., Room 4210, Washington, DC 20410-5000, (202) 708-0477.

• Regulation: 24 CFR 982.505(d).

Project/Activity: Housing Authority of Snohomish County (HASCO), Everett, WA. The HASCO requested approval of a special exception payment standard that exceeds 120 percent of the fair market rent as a reasonable accommodation for a housing choice voucher holder's disabilities.

Nature of Requirement: Section 982.505(d) allows a PHA to approve a higher payment standard within the basic range for a family that includes a person with a disability as a reasonable accommodation in accordance with 24 CFR part 8.

Granted by: Michael Liu, Assistant Secretary for Public and Indian Housing.

Date Granted: January 4, 2005.

Reason Waived: Approval of the waiver was granted to allow a disabled housing choice voucher holder to obtain a two-bedroom unit, which is considered medically necessary by his physician, for his recovery from surgery and to accommodate a live-in aide.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.503(d) and 982.505(c)(3).

Project/Activity: Wayne Metropolitan Housing Authority (WMHA), Wooster, OH. The WMHA requested a waiver of payment standard (PS) requirements to permit it to reduce PS below basic range with immediate implementation to avoid termination of housing assistance payments (HAP) contracts during calendar year 2005 due to insufficient funding.

Nature of Requirement: Section 982.503(d), states that HUD may consider a public housing agency's (PHA) request for approval to establish a PS amount that is lower than the basic range (90 to 110 percent of the current fair market rent (FMR) for the unit size). Section 982.505(c)(3) states that if the amount on the PS schedule is decreased during the term of the HAP contract, the lower PS amount generally must be used to calculate the monthly HAP for the family beginning at the effective date of the family's second regular reexamination following the effective date of the decrease.

Granted by: Michael Liu, Assistant Secretary for Public and Indian Housing.

Date Granted: February 9, 2005.

Reason Waived: Waivers were granted because the cost-savings measures the WMHA proposed through immediate reduction of PSs below 90 percent of FMR for three of the four unit sizes would enable it to both manage its Housing Choice Voucher program within allocated budget authority and avoid the termination of additional HAP contracts due to insufficient funding.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Franklin County Regional Housing and Redevelopment Authority (FCRHRA), Turner Fall, MA. The FCRHRA requested approval of a special exception payment standard that exceeds 120 percent of the fair market rent as a reasonable accommodation for a housing choice voucher holder's disability.

Nature of Requirement: Section 982.505(d) allows a PHA to approve a higher payment standard within the basic range for a family that includes a person with a disability as a reasonable accommodation in accordance with 24 CFR part 8.

Granted by: Michael Liu, Assistant Secretary for Public and Indian Housing.

Date Granted: February 11, 2005.

Reason Waived: Approval of the waiver was granted to allow a disabled housing choice voucher holder to continue to live in a two-bedroom unit to isolate problematic chemicals until it is safe to remove the items in the other living space in the home.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Fall River Housing Authority (FRHA), Fall River, MA. The FRHA requested extension of a special exception payment standard that exceeds 120 percent of the fair market rent as a reasonable accommodation for a housing choice voucher holder's disabilities.

Nature of Requirement: Section 982.505(d) allows a PHA to approve a higher payment standard within the basic range for a family that includes a person with a disability as a reasonable accommodation in accordance with 24 CFR part 8.

Granted by: Michael Liu, Assistant Secretary for Public and Indian Housing.

Date Granted: February 18, 2005.

Reason Waived: Approval of the waiver was granted to allow a disabled housing choice voucher holder to continue to reside in her two-bedroom unit, which her physician considers medically necessary because of her many illnesses.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.3(a)(2).

Project/Activity: Northwest Regional Housing Authority (NRHA), Boone, NC. The NRHA requested a waiver regarding the availability of vouchers for project-based assistance so that it could enter into an agreement to enter into a housing assistance payments contract (AHAP) for 48 units to Grandview Ridge Apartments.

Nature of Requirement: The regulation at 24 CFR 983.3(a)(2) requires that the number of units to be project-based must not be under a tenant-based or project based housing assistance payments (HAP) contract or otherwise committed, e.g., vouchers issued to families searching for housing or units under an AHAP.

Granted by: Michael Liu, Assistant Secretary for Public and Indian Housing.

Date Granted: February 22, 2005.

Reason Waived: The requirement to have vouchers available at the time of execution of an AHAP was waived for Grandview Ridge Apartments since the project will not be ready for occupancy until October 1, 2005, at which time the NRHA should have sufficient turnover of vouchers to meet its contractual obligations under a HAP contract

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.7(c)(9).

Project/Activity: Housing Authority of the City of Atlanta (HACA), Atlanta, GA. The HACA requested a waiver of § 983.7(c)(9) to allow the attachment of project-based voucher assistance to non-subsidized units located in a project with a Section 202 loan.

Nature of Requirement: Section 983.7(c)(9) prohibits the attachment of project-based assistance to units within a project with a Section 202 loan.

Granted by: Michael Liu, Assistant Secretary for Public and Indian Housing.

Date Granted: March 24, 2005.

Reason Waived: The waiver was granted based on the Department's plans to remove the prohibition on attaching project-based voucher assistance to projects with a Section 202 loan.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Rochester Housing Authority (RHA), Rochester, NY. The RHA requested a waiver of deconcentration requirements to permit it to attach PBA to eight units at Susan B. Anthony Apartments, which is located in census tract 55 that has a poverty rate of 39.6 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: February 18, 2005.

Reason Waived: An exception to the deconcentration requirements was granted since the project is located in the City of Rochester's HUD-designated Renewal Community. The purpose of establishing renewal communities is to open new businesses, and create jobs, housing, and new educational and healthcare opportunities for thousands of Americans.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register Notice, Revisions to PHA Project-Based Assistance (PBA) Program; Initial Guidance.

Project/Activity: Boulder Housing Partners (BHP), Boulder, CO. The BHP requested an exception to the 25 percent cap on the number of units in a building that can have PBA attached to permit it to attach PBA to 35 units at the Woodlands Community.

Nature of Requirement: Section II subpart F requires that no more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted by: Michael Liu, Assistant Secretary for Public and Indian Housing.

Date Granted: February 22, 2005.

Reason Waived: An exception to the unit cap was granted since families participating in the BHP's Family Self-Sufficiency (FSS) program occupied 31 units of the 33 units, and disabled households not participating in the BHP's FSS program occupied the other two units. Families that will receive supportive services through the BHP's FSS program will be selected to occupy the two vacant units.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Housing Authority of the City of Newport, RI. The HACN requested an exception to the initial guidance for the Newport Heights project that is located in a census tract with a poverty rate greater than 20 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: March 9, 2005.

Reason Waived: Approval of the exception for deconcentration was granted since the area of the City where the units would be located has been targeted for revitalization and will be a mixed income, privately managed community. The units are part of a 329-unit HOPE VI site and 70 of the 329 units will be market rate units that are targeted to households earning above 80 percent of area median income. The revitalization plan for the neighborhood in which the units will be located includes the construction of a college and day care center. Additionally, a 14-acre mall has been developed near the Newport Heights site that has created 400 new jobs available to area residents.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: San Diego Housing Commission (SDHC), San Diego, CA. The SDHC requested a waiver of deconcentration requirements to permit it to attach PBA to 23 units at Catholic Charities 9th and F Street Apartments, which is located in census tract 53 that has a poverty rate of 22.8 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: March 28, 2005.

Reason Waived: An exception to the deconcentration requirements was granted since the project is located in the City of San Diego's HUD-designated Renewal Community as well as a locally designated Metropolitan Enterprise Zone and Redevelopment area. The purpose of establishing renewal communities is to open new businesses, and create jobs, housing, and new educational and healthcare opportunities for thousands of Americans. The local designations serve the same purpose.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Chesapeake Redevelopment and Housing Authority (CRHA), Chesapeake, VA. The CRHA requested the waiver in order to reduce program costs to avoid having to terminate housing assistance payments contracts and terminate family participation in the program because of insufficient funding.

Nature of Requirement: Section 982.505(c)(3) provide that if the amount on the payment standard schedule is decreased during the term of the HAP contract, the lower payment standard amount generally must be used to calculate the monthly HAP for the family beginning at the effective date of the family's second regular reexamination following the effective date of the decrease.

Granted by: Michael Liu, Assistant Secretary for Public and Indian Housing.

Date Granted: March 28, 2005.

Reason Waived: The reduction in costs that the voucher program for CRHA will realize through the earlier implementation of the reduced payment standard for families under HAP contracts will enable the agency to both manage its HCV program within allocated budget authority and avoid the termination of HAP contracts due to insufficient funding.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 990.107(f) and 990.109.

Project/Activity: Muskegon Heights, MI, Housing Commission.

A request was made to permit the Muskegon Heights Housing Commission to benefit from energy performance contracting for developments that have resident-paid utilities. The Muskegon Heights Housing Commission estimates that it could increase energy savings substantially if it were able to undertake energy performance contracting for its resident-paid utilities.

Nature of Requirement: Under 24 CFR part 990, the Operating Fund Formula energy conservation incentive that relates to energy performance contracting currently applies only to PHA-paid utilities. The Muskegon Heights Housing Commission has resident-paid utilities.

Granted by: Michael Liu, Assistant Secretary for Public and Indian Housing.

Date Granted: March 2, 2005.

Reason Waived: In September 1996, the Oakland Housing Authority was granted a waiver to permit the Authority to benefit from energy performance contracting for developments with resident-paid utilities. The waiver was granted on the basis that the Authority presented a sound and reasonable methodology for doing so. The Muskegon Heights Housing Commission requested a waiver based on the same approved methodology. The waiver permits the Commission to exclude from its Operating Fund calculation of rental income the increased rental income due to the difference between updated baseline utility allowances (before implementation of the energy conservation measures) and revised allowances (after implementation of the measures) for the project(s) involved for the duration of the contract period, which cannot exceed 12 years.

Contact: Director, Public Housing Financial Management Division, REAC, Attn: Peggy Mangum, Public Housing Financial Management Division, Office of Public and Indian Housing-Real Estate Assessment Center, 550 12th St., SW., Washington, DC 20024-5000, telephone (202) 475-8778.

Regulation: 24 CFR 1000.214.

Project/Activity: The Big Pine Paiute Tribe's submission of an Indian Housing Plan (IHP) for Fiscal Year (FY) 2004 funding made available under the Native American Housing Assistance and Self-Determination Act (NAHASDA) of 1996. The Tribe is located in Big Pine, California.

Nature of Requirement: The regulation at § 1000.214 establishes a July 1 deadline for the submission of an IHP.

Granted by: Michael Liu, Assistant Secretary for Public and Indian Housing.

Date Granted: January 28, 2005.

Reason Waived: The Big Pine Paiute Tribe submitted for comment a draft IHP to the Southwest Office of Native American Programs on March 3, 2004, that was complete except for the executed certifications. The Tribe indicated that a final IHP would be submitted by July 1. However, Big Pine's former Housing Manager failed to effectively communicate to the Tribal Council that the deadline for submittal of the IHP was pending, and that signatures for the IHP were necessary before sending. As a consequence, the IHP was not submitted by the due date. Based on the fact that Big Pine had made an attempt to submit the IHP within the required time frame, their request for a waiver of the requirement to submit before July 1 was approved.

Contact: Jennifer Bullough, Acting Director, Grants Management, Headquarters Office of Native American Programs (ONAP), Department of Housing and Urban Development, 451 Seventh Street, SW., Room 4126, Washington, DC 20410-5000, telephone, (202) 401-7914.

• Regulation: Section II subpart E of the January 16, 2001, Federal Register Notice, Revisions to PHA Project-Based Assistance (PBA) Program; Initial Guidance.

Project/Activity: Rochester Housing Authority (RHA), Rochester, NY. The RHA requested a waiver of deconcentration requirements to permit it to attach PBA to eight units at the Providence Housing Corporation Project, which is located in census tracts 64 and 65 that have poverty rates of 29.9 percent and 39.6 percent, respectively.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: January 4, 2005.

Reason Waived: An exception to the deconcentration requirements was granted since the project is located in the City of Rochester's HUD-designated Renewal Community. The purpose of establishing renewal communities is to open new businesses, and create jobs, housing, and new educational and healthcare opportunities for thousands of Americans. The goals of a renewal community are consistent with the goal of deconcentrating poverty and expanding housing and economic opportunities.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register Notice, Revisions to PHA Project-Based Assistance (PBA) Program; Initial Guidance.

Project/Activity: Housing Authority of Baltimore City (HABC), Baltimore, MD. The HABC requested an exception to the 25 percent cap on the number of units in a building that can have PBA attached to permit it to attach PBA to 59 units at the Irvington Woods Apartments.

Nature of Requirement: Section II subpart F requires that no more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted by: Michael Liu, Assistant Secretary for Public and Indian Housing.

Date Granted: January 12, 2005.

Reason Waived: An exception to the unit cap was granted based on the nature of the services families would be receiving. The services include employment and career counseling, job skills assessment and skills training, homeownership counseling, education and computer training.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register Notice, Revisions to PHA Project-Based Assistance (PBA) Program; Initial Guidance.

Project/Activity: Cambridge Housing Authority (CHA), Cambridge, MA. The CHA requested an exception to the 25 percent cap on the number of units in a building that can have PBA attached to permit it to attach PBA to 32 units at the Trolley Square Project.

Nature of Requirement: Section II subpart F requires that no more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted by: Michael Liu, Assistant Secretary for Public and Indian Housing.

Date Granted: January 18, 2005.

Reason Waived: An exception to the unit cap was granted based on the nature of the services families would be receiving. The services that will be provided will emphasize moving from underemployment to entry-level employment to higher-skilled/better paying employment.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register Notice, Revisions to PHA Project-Based Assistance (PBA) Program; Initial Guidance.

Project/Activity: Housing Authority of the County of Santa Barbara (HACSB), Santa Barbara, CA. The HACSB requested an exception to the 25 percent cap on the number of units in a building that can have PBA attached to permit it to attach PBA to 90 units at Central Plaza Apartments.

Nature of Requirement: Section II subpart F requires that no more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted by: Michael Liu, Assistant Secretary for Public and Indian Housing.

Date Granted: January 18, 2005.

Reason Waived: An exception to the unit cap was granted since the HACSB, in coordination with various community service agencies, will provide the following supportive services to the families in Central Plaza Apartments: Money management and family budgeting counseling; high school classes; a computer lab; pre-purchase home ownership counseling; job search and career development counseling; and parenting classes.

Contact: Dr. Alfred C. Jurison, Director, Housing Voucher Management and Operations Division, Office of Public Housing and Voucher Programs, Office of Public and Indian Housing, Department of Housing and Urban Development, 451 Seventh Street, SW., Room 4210, Washington, DC 20410-5000, telephone (202) 708-0477.

[FR Doc. 05-12137 Filed 6-20-05; 8:45 am]

BILLING CODE 4210-67-P